DEPARTMENT OF HEALTH AND HUMAN SERVICES

Administration for Children and Families

Submission for OMB Review; Comment Request

Title: Evaluation of the Head Start Designation Renewal System

OMB No.: New Collection.

Description: In the fall of 2011, the Administration for Children and Families (ACF) within the US Department of Health and Human Services (HHS) significantly expanded its accountability provisions with the implementation of the Head Start Designation Renewal System (DRS). The DRS is designed to identify which Head Start and Early Head Start grantees are providing high quality, comprehensive services to the children and families in their communities. Where they are not, grantees are denied automatic renewal of their grant and must apply for continuing funding through an open competition process. Determinations are based on seven conditions designed to measure service quality, program operational quality, and fiscal and internal integrity.

The ACF is proposing to conduct an evaluation of the DRS. The purpose of the evaluation is to understand if the DRS is working as intended, as a valid, reliable, and transparent method for identifying high-quality programs that can receive continuing five-year grants without competition and as a system that encourages overall program quality improvement. It also seeks to understand how the system is working, the circumstances in which it works more or less well, and the contextual, demographic, and program factors and program actions associated with how well the system is working. The study will employ a mixed-methods design that integrates and layers administrative and secondary data sources, observational measures, and interviews to develop a rich knowledge base about what the DRS accomplishes and how it does so.

Respondents: Head Start program directors; other program managers including grantee agency directors, center directors, and education services coordinators; Head Start teachers; and members of Head Start governing bodies and local policy councils.

Annual Burden Estimates
Instrument (appendix) | Total number of respondents | Annual number of respondents | Number of responses per respondent | Average burden hours per response | Annual burden hours
Quality Measures Follow Up Interview: Teachers | 560 | 280 | 1 | 0.4 | 112
Quality Measures Follow Up Interview: Center Directors | 300 | 150 | 1 | 1.85 | 278
Quality Measures Follow Up Interview: Program Directors | 70 | 35 | 1 | 1.1 | 39
DRS Telephone Interview: Program Directors | 35 | 18 | 1 | 1.25 | 23
DRS In-Depth Interview: Agency Directors | 15 | 8 | 1 | 1 | 8
DRS In-Depth Interview: Program Directors | 15 | 8 | 1 | 1.5 | 12
DRS In-Depth Interview: Policy Council/Governing Body | 75 | 38 | 1 | 1.5 | 57
DRS In-Depth Interview: Program Managers | 45 | 23 | 1 | 1.5 | 35
Competition In-Depth Interview: Agency and Program Directors | 18 | 9 | 1 | 1.25 | 12
Competition In-Depth Interview: Policy Council/Governing Body | 45 | 23 | 1 | 1.5 | 35
Competition In-Depth Interview: Program Managers | 27 | 14 | 1 | 1.5 | 21
Competition Data Capture Sheet | 500 | 250 | 1 | 0.15 | 38

Estimated Total Annual Burden Hours: 670.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2013-19805 Filed 8-14-13; 8:45 am]

BILLING CODE 4184-22-P